DEPARTMENT OF COMMERCE

International Trade Administration

[A-475-824]

Notice of Extension of Time Limit of the Preliminary Results of Antidumping Duty Administrative Review: Stainless Steel Sheet and Strip in Coils From Italy

AGENCY: Import Administration, International Trade Administration, Department of Commerce.

ACTION: Notice of extension of time limit of the preliminary results of the antidumping duty administrative review of stainless steel sheet and strip in coils from Italy.

SUMMARY: The Department of Commerce (“the Department”) is extending the time limit of the preliminary results of the antidumping duty administrative review of stainless steel sheet and strip in coils from Italy.

EFFECTIVE DATE: May 7, 2004.

FOR FURTHER INFORMATION CONTACT: Jonathan Herzog, AD/CVD Enforcement, Group III, Office 9, Import Administration, International Trade Administration, U.S. Department of Commerce, 14th Street and Constitution Avenue, NW., Washington, DC 20230; telephone: (202) 482-4271.

Background

On July 2, 2003, the Department published a notice of opportunity to request an administrative review of the antidumping duty order on stainless steel sheet and strip in coils from Italy. See Antidumping or Countervailing Duty Order, Finding, or Suspended Investigation; Opportunity to Request Administrative Review, 68 FR 39511 (July 2, 2003). On July 31, 2003, Thyssen Krupp Acciai Speciali S.p.A. (“TKAST”), an Italian producer of subject merchandise requested that the Department conduct an administrative review. Additionally, on July 31, 2003, Petitioners requested that the Department conduct an administrative review of TKAST. On August 22, 2003, the Department published a notice of initiation of an administrative review of the antidumping duty order on stainless steel sheet and strip in coils, for the period July 1, 2002 through June 30, 2003. See Initiation of Antidumping and Countervailing Duty Administrative Reviews and Requests for Revocation in Part, 68 FR 50750 (August 22, 2003). On March 1, 2004, the Department published a notice extending the preliminary results for this administrative review by 60 days. See Notice of Extension of Time Limit of Preliminary Results of Antidumping Duty Administrative Review: Stainless Steel Sheet and Strip in Coils from Italy, 69 FR 9590 (March 1, 2004). The preliminary results of this administrative review are currently due no later than May 31, 2004.

Extension of Time Limit for Preliminary Results

Pursuant to section 751(a)(3)(A) of the Act, and section 351.213(h)(2) of the Department's regulations, the Department may extend the deadline for completion of the preliminary results of a review if it determines that it is not practicable to complete the preliminary results within the statutory time limit of 245 days from the date on which the review was initiated. Due to the complexity of issues present in this administrative review, such as issues concerning credit expense calculations and home market downstream sales the Department has determined that it is not practicable to complete this review within the original time period provided in section 751(a)(3)(A) of the Act and section 351.213(h)(2) of the Department's regulations.

Therefore, we are extending the due date for the preliminary results by 60 days, until no later than July 30, 2004. The final results continue to be due 120 days after the publication of the preliminary results.

Dated: May 3, 2004.
Joseph A. Spetrini,
Deputy Assistant Secretary for Import Administration, Group III.

[FR Doc. 04-10486 Filed 5-6-04; 8:45 am]

BILLING CODE 3510-DS-P